DEPARTMENT OF HOMELAND SECURITY

Federal Emergency Management Agency

44 CFR Part 67

[Docket ID FEMA-2010-0003; Internal Agency Docket No. FEMA-B-1137]

Proposed Flood Elevation Determinations

Correction

In proposed rule document 2010-24144 beginning on page 59181 in the issue of Monday, September 27, 2010, make the following corrections:

§67.4 [Corrected]

1. On page 59182, in § 67.4, the table which begins three lines from the bottom of the page is corrected to have a centered heading above the first row of the table, which should read “Putnam County, New York (All Jurisdictions)”.

2. On page 59183, in § 67.4, the table on that page is corrected to have a centered heading above the row of that table whose first column entry reads “East Branch Tunungwant Creek.”, which should read “McKean County, Pennsylvania (All Jurisdictions)”.

[FR Doc. C1-2010-24144 Filed 10-12-10; 8:45 am]

BILLING CODE 1505-01-D